DEPARTMENT OF THE INTERIOR

National Park Service

[NPS-WASO-NRNHL-DTS#-33050; PPWOCRADI0, PCU00RP14.R50000]

National Register of Historic Places; Notification of Pending Nominations and Related Actions

AGENCY: National Park Service, Interior.

ACTION: Notice.

SUMMARY: The National Park Service is soliciting electronic comments on the significance of properties nominated before November 20, 2021, for listing or related actions in the National Register of Historic Places.

DATES: Comments should be submitted electronically by December 17, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 20, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Sonoma County

Salt Point Landing Historical and Archaeological District, (Northern California Doghole Ports Maritime Cultural Landscape MPS), Address Restricted, Jenner vicinity, MP100007268

DISTRICT OF COLUMBIA

District of Columbia

Lucy Diggs Slowe Elementary School, (20th Century African American Civil Rights Sites in Washington, DC, 1912-1974 MPS), 3115 14th St. NE and 1404 Jackson St. NE, Washington, MP100007259

MARYLAND

Anne Arundel County

Sands, John, House, 130 Prince George St., Annapolis, SG100007260

MASSACHUSETTS

Worcester County

Southborough Center Historic District, Main and Common Sts., Middle, Cordaville, and Latisquama Rds., Southborough, SG100007264

MISSOURI

Jackson County

El Torreon Ballroom, 3101 Gillham Plz., Kansas City, SG100007262

Sunset Tower, (Working-Class and Middle-Income Apartment Buildings in Kansas City, Missouri MPS), 4821 Roanoke Pkwy., Kansas City, MP100007263

Jasper County

Cleveland Apartments, (Historic Resources of Joplin, Missouri MPS), 801-807 West 1st St. and 104 North Jackson Ave., Joplin, MP100007261

PENNSYLVANIA

Allegheny County

Fairfax Apartments, 4614 5th Ave., Pittsburgh, SG100007257

WYOMING

Big Horn County

Shell Community Hall, 201 Smith Ave., Shell, SG100007266

A request for removal has been made for the following resource:

NORTH DAKOTA

McLean County

Former McLean County Courthouse, (North Dakota County Courthouses TR), Main St., Washburn, OT85002987

Additional documentation has been received for the following resource:

ILLINOIS

Du Page County

Graue Mill, NW of jct. of Spring and York Rds., Oak Brook, AD75002077

Authority: Section 60.13 of 36 CFR part 60.

Dated: November 23, 2021.
Paul Lusignan,
Acting Chief, National Register of Historic Places/National Historic Landmarks Program.

[FR Doc. 2021-26204 Filed 12-1-21; 8:45 am]

BILLING CODE 4312-52-P